DEPARTMENT OF HEALTH AND HUMAN SERVICES

Food and Drug Administration

[Docket No. FDA-2009-N-0664]

Thermal Aspects of Radio Frequency Exposure; Public Workshop

AGENCY: Food and Drug Administration, HHS.

ACTION: Notice of public workshop.

The Food and Drug Administration (FDA) is announcing a public workshop entitled “Thermal Aspects of Radio Frequency Exposure.” The purpose of the workshop is to discuss thermal sensitivity and heating effects of different tissues.

Date and Time: The public workshop will be held on January 11 and 12, 2010, from 8:30 a.m. to 5 p.m.

Location: The public workshop will be held at the Gaithersburg Hilton, 620 Perry Pkwy., Gaithersburg, MD 20877.

Contact Person: Victoria Wagman, Center for Devices and Radiological Health, Food and Drug Administration, 10903 New Hampshire Ave., Silver Spring, MD 20993, 301-796-6581, FAX: 301-796-5428, e-mail: victoria.wagman@fda.hhs.gov.

Registration: Mail or fax your registration information (including name, title, firm name, address, telephone and fax numbers) to the contact person by December 15, 2009. There is no registration fee for the public workshop. Early registration is recommended because seating is limited. Registration on the day of the public workshop will be provided on a space available basis beginning at 8 a.m.

If you need special accommodations due to a disability, please contact Victoria Wagman by November 4, 2009.

Transcripts: Transcripts of the public workshop may be requested in writing from the Freedom of Information Office (HFI-35), Food and Drug Administration, 5600 Fishers Lane, rm. 6-30, Rockville, MD 20857, approximately 15 working days after the public workshop at a cost of 10 cents per page. A transcript of the public workshop will be available on the Internet at http://www.fda.gov/BiologicsBloodVaccines/NewsEvents/WorkshopsMeetingsConferences/TranscriptsMinutes/default.htm.

Dated: November 6, 2009.
Jeffrey Shuren,
Acting Director, Center for Devices and Radiological Health.

[FR Doc. E9-27513 Filed 11-16-09; 8:45 am]

BILLING CODE 4160-01-S